DEPARTMENT OF TRANSPORTATION

Pipeline and Hazardous Materials Safety Administration

[Docket No. PHMSA-2019-0195 (Notice No. 2019-11)]

Hazardous Materials: Information Collection Activities

AGENCY: Pipeline and Hazardous Materials Safety Administration (PHMSA), DOT.

ACTION: Notice and request for comments.

SUMMARY: In accordance with the Paperwork Reduction Act of 1995, PHMSA invites comments on a revision to the information collection pertaining to hazardous materials public sector training and planning grants for which PHMSA intends to request a renewal with revision from the Office of Management and Budget.

DATES: Interested persons are invited to submit comments on or before January 27, 2020.

ADDRESSES: You may submit comments identified by the Docket Number PHMSA-2019-0195 (Notice No. 2019-11) by any of the following methods:

• Federal eRulemaking Portal: http://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: To the Docket Management System; Room W12-140 on the ground floor of the West Building, 1200 New Jersey Avenue SE, Washington, DC 20590, between 9 a.m. and 5 p.m., Monday through Friday, except Federal holidays.

Instructions: All submissions must include the agency name and Docket Number (PHMSA-2019-0195) for this notice at the beginning of the comment. To avoid duplication, please use only one of these four methods. All comments received will be posted without change to the Federal Docket Management System (FDMS) and will include any personal information you provide.

Requests for a copy of an information collection should be directed to Steven Andrews or Shelby Geller, (202) 366-8553, U.S. Department of Transportation, Pipeline and Hazardous Materials Safety Administration, Standards and Rulemaking Division, 1200 New Jersey Avenue SE, Washington, DC 20590-0001.

Docket: For access to the dockets to read background documents or comments received, go to http://www.regulations.gov or DOT's Docket Operations Office (see ADDRESSES).

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

FOR FURTHER INFORMATION CONTACT: Steven Andrews or Shelby Geller, (202) 366-8553, U.S. Department of Transportation, Pipeline and Hazardous Materials Safety Administration, Standards and Rulemaking Division, 1200 New Jersey Avenue SE, Washington, DC 20590-0001.

SUPPLEMENTARY INFORMATION: Section 1320.8 (d), title 5, Code of Federal Regulations (CFR) requires PHMSA to provide interested members of the public and affected agencies an opportunity to comment on information collection and recordkeeping requests. This notice identifies an information collection request that PHMSA will be submitting to the Office of Management and Budget (OMB) for revision. Specifically, PHMSA is notifying the public of its intent to seek additional information in hazardous materials planning grant applications. This information collection is contained in 49 CFR 171.6 of the Hazardous Materials Regulations (HMR; 49 CFR parts 171-180). PHMSA has revised burden estimates, where appropriate, to reflect current reporting levels or adjustments based on a proposed revision to this information collection. The following information is provided for this information collection: (1) Title of the information collection, including former title if a change is being made; (2) OMB control number; (3) summary of the information collection activity; (4) description of affected public; (5) estimate of total annual reporting and recordkeeping burden; and (6) frequency of collection. PHMSA will request a 3-year term of approval for this information collection activity and will publish a notice in the Federal Register upon OMB's approval.

On February 28, 2019, PHMSA published a final rule titled “Hazardous Materials: Oil Spill Response Plans and Information Sharing for High-Hazard Flammable Trains (FAST Act)” [HM-251B; 84 FR 6910] which revised and clarified requirements for Comprehensive Oil Spill Response Plans (COSRPs) and expanded their applicability based on petroleum oil thresholds that apply to an entire train consist. The final rule also required a railroad to share information about high-hazard flammable train (HHFT) operations with each State emergency response commissions (SERC, Tribal Emergency Response, Commission (TERC), or other appropriate State-delegated agency in each State through which it operates to improve community preparedness. At a minimum, railroads must provide: (1) A reasonable estimate of the number of HHFTs that the railroad expects to operate each week, through each county within the State or through each tribal jurisdiction; (2) the routes over which the HHFTs will operate; (3) a description of the hazardous materials being transported and all applicable emergency response information required by the shipping papers and emergency response information requirements of the HMR; (4) an HHFT point of contact; and (5) a description of the response zones (including counties and states) and the contact information for the qualified individual and alternate as specified under § 130.120(c) if a route identified above is additionally subject to the comprehensive spill plan requirements. In addition, the HHFT notification must be maintained and transmitted in accordance with the following: (1) Railroads must update the notifications for changes in volume greater than 25%; (2) notifications and updates may be transmitted electronically or by hard copy; (3) if the disclosure includes information that a railroad believes is security sensitive or proprietary and exempt from public disclosure, the railroad should indicate that in the notification; (4) each point of contact must be clearly identified by name or title, and contact role (e.g., qualified individual, HHFT point of contact) in association with the telephone number. One point of contact may fulfill multiple roles; and (5) copies of the railroad's notifications must be made available to the Department of Transportation upon request.

Following an audit conducted by the General Accounting Office (GAO), PHMSA received a recommendation (GAO-17-91) to develop a process for regularly collecting information from SERCs on the distribution of the railroad-provided hazardous materials shipping information to local planning entities. In response to this recommendation, PHMSA is seeking to have grant applicants declare if SERCs have received copies of the railroad-provided information detailed above. In addition, PHMSA is seeking to determine if the SERCs are disseminating this information to local planning entities. PHMSA expects that requesting grantees to provide this additional information will add approximately 2 minutes of burden time per respondent. For 62 grantees, this is appropriately 2.067 additional burden hours (62 grantees x 2 minutes).

The time to complete each component of an HMEP grantee application, including the additional information-sharing compliance questions, is as follows:

Question/topic | Respondents | Responses per respondent | Number of responses | Hours per response | Total burden hours
General Grantee and Sub-grantee information | 62 | 1 | 62 | 16 | 992
Information on LEPCs | 62 | 1 | 62 | 16 | 992
Assessment of Potential Chemical Threats | 62 | 1 | 62 | 8 | 496
Assessment of Response Capabilities for Accidents/Incidents | 62 | 1 | 62 | 8 | 496
HMEP Planning and Training Grant Reporting | 62 | 1 | 62 | 7 | 434
HMEP Planning Goals and Objectives | 62 | 1 | 62 | 7 | 434
HMEP Training and Planning Assessment | 62 | 1 | 62 | 7 | 434
Hazmat Transportation Fees | 62 | 1 | 62 | 3.23 | 200.26
Grant Applicant is NIMS Compliant/Grant Application Is Reviewed By SERC | 62 | 1 | 62 | 5.5 | 341
HMEP Grant Program Administration | 62 | 1 | 62 | 5.5 | 341
HHFT Information-Sharing Compliance Questions | 62 | 1 | 62 | 0.033 | 2.067

Title: Hazardous Materials Public Sector Training and Planning Grants.

OMB Control Number: 2137-0586.

Summary: Part 110 of 49 CFR sets forth the procedures for reimbursable grants for public sector planning and training in support of the emergency planning and training efforts of States, Indian tribes, and local communities to manage hazardous materials emergencies, particularly those involving transportation. Sections in this part address information collection and recordkeeping regarding the application for grants, the monitoring of expenditures, and the reporting and requesting of modifications.

Information collection | Respondents | Total annual responses | Hours per response | Total annual burden hours
Hazardous Materials Grants Applications | 62 | 62 | 83.26 | 5,162

Affected Public: State and local governments, Indian tribes.

Increase in Annual Reporting and Recordkeeping Burden:

Increase in Annual Respondents: 0.

Increase in Annual Responses: 0.

Increase in Annual Burden Hours: 2.

Frequency of collection: On occasion.

Issued in Washington, DC on November 20, 2019.
William S. Schoonover,
Associate Administrator of Hazardous Materials Safety, Pipeline and Hazardous Materials Safety Administration.

[FR Doc. 2019-25567 Filed 11-25-19; 8:45 am]

BILLING CODE 4910-60-P